FEDERAL DEPOSIT INSURANCE CORPORATION

Update to Notice of Financial Institutions for Which the Federal Deposit Insurance Corporation Has Been Appointed Either Receiver, Liquidator, or Manager

AGENCY: Federal Deposit Insurance Corporation.

ACTION: Update Listing of Financial Institutions in Liquidation.

SUMMARY: Notice is hereby given that the Federal Deposit Insurance Corporation (Corporation) has been appointed the sole receiver for the following financial institutions effective as of the Date Closed as indicated in the listing. This list (as updated from time to time in the Federal Register) may be relied upon as “of record” notice that the Corporation has been appointed receiver for purposes of the statement of policy published in the July 2, 1992 issue of the Federal Register (57 FR 29491). For further information concerning the identification of any institutions which have been placed in liquidation, please visit the Corporation Web site at http://www.fdic.gov/bank/individual/failed/banklist.html or contact the Manager of Receivership Oversight in the appropriate service center.

Dated: March 3, 2010.
Federal Deposit Insurance Corporation.
Valerie J. Best,
Assistant Executive Secretary.

Institutions in Liquidation
[In alphabetical order]
FDIC Ref. No. | Bank name | City | State | Date closed
4657 | Amtrade International Bank of Georgia | Atlanta | GA | 9/30/2002
4658 | Bank of Alamo | Alamo | TN | 11/08/2002
4665 | Bank of Ephraim | Ephraim | UT | 6/25/2004
4644 | Bank of Falkner | Falkner | MS | 9/29/2000
4632 | Best Bank | Boulder | CO | 7/23/1998
4656 | Connecticut Bank of Commerce | Stamford | CT | 6/26/2002
6006 | Dollar Savings Bank | Newark | NJ | 2/14/2004
10183 | 1st American State Bank of Minnesota | Hancock | MN | 2/05/2010
4661 | First National Bank of Blanchardville | Blanchard | WI | 5/09/2003
4637 | First National Bank of Keystone, The | Keystone | WV | 9/01/1999
10184 | George Washington Savings Bank | Orland Park | IL | 2/19/2010
4663 | Guaranty National of Tallahassee | Tallahassee | FL | 3/12/2004
4650 | Hamilton Bank | Miami | FL | 1/11/2002
10186 | La Coste National Bank, The | La Coste | TX | 2/19/2010
10185 | La Jolla Bank, FSB | La Jolla | CA | 2/19/2010
10187 | Marco Community Bank | Marco Island | FL | 2/19/2010
10000 | Metropolitan Savings Bank | Pittsburgh | PA | 2/02/2007
10002 | Miami Valley Bank | Lakeview | OH | 10/04/2007
4646 | National State Bank of Metropolis, The | Metropolis | IL | 12/14/2000
4654 | Net First National Bank | Boca Raton | FL | 3/01/2002
10001 | Netbank | Alpharetta | GA | 9/28/2007
4655 | New Century Bank | Shelby Township | MI | 3/28/2002
4653 | Nextbank, N.A. | Phoenix | AZ | 2/07/2002
4652 | Oakwood Deposit Bank Company | Oakwood | OH | 2/01/2002
4664 | Reliance Bank | White Plains | NY | 3/19/2004
4660 | Southern Pacific Bank | Torrance | CA | 2/07/2003
6004 | Superior Bank | Chicago | IL | 7/27/2001
6005 | Universal Savings Bank | Chicago | IL | 6/27/2002

[FR Doc. 2010-5125 Filed 3-9-10; 8:45 am]

BILLING CODE 6714-01-P